DEPARTMENT OF THE INTERIOR

Bureau of Indian Affairs

Indian Gaming

AGENCY: Bureau of Indian Affairs, Interior.

ACTION: Notice of Approved Tribal-State Class III Gaming Amendments.

SUMMARY: This notice publishes approval of five Amendments to the Class III Gaming Compacts (Amendments) between the state of Oregon and the Burns-Paiute Tribe, the Confederated Tribes of Coos, Lower Umpqua and Siuslaw Indians, the Coquille Tribe of Indians, the Klamath Tribes, and the Siletz Indians of Oregon.

EFFECTIVE DATE: March 17, 2008.

FOR FURTHER INFORMATION CONTACT: George T. Skibine, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2710, the Secretary of the Interior shall publish in the Federal Register notice of approved Tribal-State compacts for the purpose of engaging in Class III gaming activities on Indian lands. These Amendments revise Oregon State Police billing plan for each of the above listed Tribes.

Dated: March 5, 2008.
Carl J. Artman,
Assistant Secretary—Indian Affairs.

[FR Doc. E8-5198 Filed 3-14-08; 8:45 am]

BILLING CODE 4310-4N-P